DEPARTMENT OF LABOR

Employment and Training Administration

Notice of a Change in Status of an Extended Benefit (EB) Period for Alaska

This notice announces a change in benefit period eligibility under the EB Program for Alaska.

Summary

The following change has occurred since the publication of the last notice regarding the State's EB status:

• June 2, 2001—Alaska's 13-week insured unemployment rate for the week ending April 28, 2001, fell below 6.0 percent and was less than 120 percent of the average for the corresponding period for the prior two years, causing Alaska's EB period that began March 4, 2001 to trigger “off” effective June 2, 2001.

Information for Claimants

The duration of benefits payable in the EB Program, and the terms and conditions on which they are payable, are governed by the Federal-State Extended Unemployment Compensation Act of 1970, as amended, and the operating instructions issued to the States by the U.S. Department of Labor. In the case of a State ending an EB period, the State employment security agency will furnish a written notice to each individual who is currently filing a claim for EB of the forthcoming end of the EB period and its effect on the individual's rights to EB (30 CFR 615.13(c)(4)).

Signed at Washington, DC, on May 23, 2001.
Raymond J. Uhalde,
Deputy Assistant Secretary of Labor for Employment and Training.

[FR Doc. 01-13784 Filed 5-31-01; 8:45 am]

BILLING CODE 5670-30-M